DEPARTMENT OF HOUSING AND URBAN DEVELOPMENT

[Docket No. FR-5288-N-14]

Notice of Submission of Proposed Information Collection to OMB; Section 8 Management Assessment Program (SEMAP)

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: December 21, 2009.

ADDRESSES: Interested persons are invited to submit comments regarding this proposal. Comments should refer to the proposal by name/or OMB Control number and should be sent to: Lillian L. Deitzer, Departmental Reports Management Officer, QDAM, Department of Housing and Urban Development, 451 7th Street, SW., Room 4178, Washington, DC 20410-5000; telephone 202-402-8048, (this is not a toll-free number) or email Ms. Deitzer at Lillian.L.Deitzer@hud.gov for a copy of the proposed forms, or other available information. Persons with hearing or speech impairments may access this number through TTY by calling the toll-free Federal Information Relay Service at (800) 877-8339. (Other than the HUD USER information line and TTY numbers, telephone numbers are not toll-free.)

FOR FURTHER INFORMATION CONTACT: Dacia Rogers, Office of Policy, Programs and Legislative Initiatives, PIH, Department of Housing and Urban Development, 451 7th Street, SW., Room 4116, Washington, DC 20410; telephone 202-708-0713, (this is not a toll-free number). Persons with hearing or speech impairments may access this number through TTY by calling the toll-free Federal Information Relay Service at (800) 877-8339. (Other than the HUD USER information line and TTY numbers, telephone numbers are not toll-free.)

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Section 8 Management Assessment Program (SEMAP).

OMB Approval Number: 2577-0215.

Form Numbers: HUD-52648.

Description of the Need for the Information and its Proposed Use: Program regulations at 24 CFR part 985 set forth the requirements of the SEMAP that include a certification of indicators reflecting performance. Through this assessment, HUD can improve oversight of the Housing Choice Voucher program and target monitoring and assistance to public housing agencies (PHA) that need the most improvement and pose the greatest risk. PHAs designated as troubled must implement corrective action plans for improvements.

Members of the Affected Public: Respondents: State, Local, or Tribal Governments.

Frequency of SEMP Certification Submission: Annually.

| Number of respondents | × | Frequency of response | × | Hours per response | = | Burden hours
Reporting Burden | 2,437 |  | 1 |  | 12 |  | 29,244
Corrective Action Plan | 100 |  | 1 |  | 10 |  | 1,000
Report on Correction of SEMAP Deficiency | 609 |  | 1 |  | 2 |  | 1,218

Total Estimated Burden Hours: 31,462.

Status: Extension of a currently approved collection.

Authority: Section 3507 of the Paperwork Reduction Act of 1995, 44 U.S.C. 35, as amended.

Dated: October 14, 2009.
Bessy Kong,
Deputy Assistant Secretary for Policy, Programs, and Legislative Initiatives.

[FR Doc. E9-25392 Filed 10-21-09; 8:45 am]

BILLING CODE 4210-67-P